DEPARTMENT OF ENERGY

Federal Energy Regulatory Commission

[Docket No. CP01-49-000]

Northwest Pipeline Corporation; Notice of Application

December 18, 2000.

Take notice that on December 8, 2000, Northwest Pipeline Corporation (Northwest), 295 Chipeta Way, Salt Lake City, Utah, 84158, filed in Docket No. CP01-49-000, an application, pursuant to Section 7(c) of the Natural Gas Act and Part 157 of the Federal Energy Regulatory Commission's Regulations for a certificate of public convenience and necessity authorizing Northwest to construct and operate certain facilities in Snohomish County, Washington, all as more fully set forth in the application which is on file with the Commission and open to public inspection. This filing may be viewed on the web at http://www.ferc.fed.us/online/rims.htm. (Call 202-108-2222 for assistance.)

Specifically, Northwest proposes to construct and operate: (1) approximately 9 miles of 20-inch diameter delivery lateral pipeline in Snohomish County (Everett Delta Lateral), extending from an interconnect with Northwest's existing mainline and mainline loop north of the City of Lake Stevens to the proposed Northwest Power Company, LLC (NPC) power plant near Everett, Washington; and (2) two delivery meter stations at the terminus of the lateral, the Everett Delta Meter Station for deliveries to NPC and the Preston Point Meter Station for deliveries to the distribution system of Puget Sound Energy, Inc. (PSE).

Northwest states that the Everett Delta Lateral will have a design capacity of approximately 133,000 Dth per day. Further, Northwest avers that the proposed facilities will be used to deliver natural gas to NPC to fuel its planned Everett Delta Power Plant and to PSE to accommodate increased demand for natural gas in its local distribution area.

Northwest estimates the cost of the proposed facilities at approximately $17.2 million and states that all costs will be reimbursed by NPC and PSE pursuant to the delivery facilities reimbursement provisions of Northwest's FERC Gas Tariff. Northwest requests that the FERC issue a preliminary determination on non-environmental aspects of its requested authorizations by June 30, 2001 and issue a final certificate order herein no later than the end of year 2001, to allow adequate time for construction of the proposed delivery facilities before August 15, 2002, the date NPC estimates it will require test gas for its new power generating plant.

Any questions regarding this application should be directed to Gary Kotter, Manager, Certificates, at (801) 584-7117, Northwest Pipeline Corporation, P.O. Box 58900, Salt Lake City, Utah 84158.

There are two ways to become involved in the Commission's review of this project. First, any person wishing to obtain legal status by becoming a party of the proceedings for this project should, on or before January 8, 2001, file with the Federal Energy Regulatory Commission, 888 First Street, NE., Washington, DC 20426, a motion to intervene in accordance with the requirements of the Commission's Rules of Practice and Procedure (18 CFR 385.211 and 385.214) and the regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project should submit an original and two copies of their comments to the Secretary of the Commission. Environmental comments will be placed on the Commission's environmental mailing list, will receive copies of environmental documents, and will be able to participate in meetings associated with the Commission's environmental review process. Comments will not be required to serve copies of filed documents on all other parties. However, Commenters will not receive copies of all documents filed by other parties or issued by the Commission, and will not have the right to seek rehearing or appeal the Commission's final order to a Federal court.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the proceeds as possible.

Comments and protests may be filed electronically via the internet in lieu of paper. See 18 CFR 385.2001(a)(1)(iii) and the Commission's website at ­http://www.ferc.fed.us/efi/doorbell.htm.

If the Commission decides to set the application for a formal hearing before an Administrative Law Judge, the Commission will issue another notice describing that process. At the end of the Commission's review process, a final Commission order approving or denying a certificate will be used.

David P. Boergers,
Secretary.

[FR Doc. 00-32687 Filed 12-21-00; 8:45 am]

BILLING CODE 6717-01-M